DEPARTMENT OF DEFENSE

Office of the Secretary

[Docket ID: DOD-2010-OS-0057]

Privacy Act of 1974; Systems of Records

AGENCY: Defense Logistics Agency, DoD.

ACTION: Notice to alter a system of records.

SUMMARY: The Defense Logistics Agency proposes to alter a system of records notice in its existing inventory of records systems subject to the Privacy Act of 1974 (5 U.S.C. 552a), as amended.

DATES: This proposed action will be effective without further notice on June 1, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is of make these submissions available for public viewing on the Internet at http://www.regulations.gov as they are received without change, including any personal identifiers or contact information.

FOR FURTHER INFORMATION CONTACT: Ms. Jody Sinkler at (703) 767-5045.

SUPPLEMENTARY INFORMATION: The Defense Logistics Agency systems of records notices subject to the Privacy Act of 1974 (5 U.S.C. 552a), as amended, have been published in the Federal Register and are available from the Privacy Act Office, Headquarters, Defense Logistics Agency, ATTN: DGA, 8725 John J. Kingman Road, Suite 1644, Fort Belvoir, VA 22060-6221.

The proposed system reports, as required by 5 U.S.C. 552a(r), of the Privacy Act of 1974, as amended, were submitted on April 16, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: April 23, 2010.
Mitchell S. Bryman,
Alternate OSD Federal Register Liaison Officer, Department of Defense.

S335.01

System name:

Training and Employee Development Record System (November 18, 2003; 68 FR 65047).

Changes:

* * * * *

System location:

Delete entry and replace with “The master file is maintained by the Director, Defense Logistics Agency Training Center, Building 11, Section 5, 3990 E. Broad Street, Columbus, OH 43216-5000.

Subsets of the master file are maintained by DLA Support Services, Business Management Office, 8725 John J. Kingman Road, Stop 6220, Fort Belvoir, VA 22060-6221; the DLA Primary Level Field Activities; and individual supervisors.

Official mailing addresses are published as an appendix to DLA's compilation of systems of records notice.”

Categories of individuals covered by the system:

Delete entry and replace with “Individuals receiving training funded or sponsored by the Defense Logistics Agency (DLA) to include DLA employees, Department of Defense military personnel, non-appropriated fund personnel, DLA contractor personnel, and DLA foreign national personnel may be included in the system at some locations.”

Categories of records in the system:

In the first sentence after the phrase “Individual's name, Social Security Number (SSN),” add the phrase “student identification number,” to entry.

* * * * *

Retrievability:

Delete entry and replace with “Records may be retrieved by name, student identification number, or Social Security Number (SSN).”

Safeguards:

Delete entry and replace with “Records are maintained in physical and electronic areas accessible only to DLA personnel who must use the records to perform assigned duties. Physical access is limited through the use of locks, guards, card swipe, and other administrative procedures. The electronic records are deployed on accredited systems with access restricted by the use of Common Access Card (CAC) and assigned system roles. The web-based files are encrypted in accordance with approved information assurance protocols. Employees are warned through screen log-on protocols and periodic briefings of the consequences of improper access or use of the data. In addition, users are trained to lock or shutdown their workstations when leaving the work area. During non-duty hours, records are secured in access-controlled buildings, offices, cabinets or computer systems.”

* * * * *

Notification procedure:

Delete entry and replace with “Individuals seeking to determine whether information about themselves is contained in this system of records should address written inquiries to the Privacy Act Office, Headquarters, Defense Logistics Agency, ATTN: DGA, 8725 John J. Kingman Road, Suite 1644, Fort Belvoir, VA 22060-6221.

Written inquiries should contain the individual's name, Social Security Number (SSN), home address and telephone number. Current DLA employees may determine whether information about themselves is contained in subsets to the master file by accessing the system through their assigned DLA computer or by contacting their immediate supervisor.”

Record access procedures:

Delete entry and replace with “Individuals seeking access to information about themselves contained in this system of records should address written inquiries to the Privacy Act Office, Headquarters, Defense Logistics Agency, ATTN: DGA, 8725 John J. Kingman Road, Suite 1644, Fort Belvoir, VA 22060-6221.

Written inquiries should contain the individual's name, Social Security Number (SSN), home address and telephone number. Current DLA employees may gain access to data contained in subsets to the master file by accessing the system through their assigned DLA computer or by contacting their immediate supervisor.”

Contesting record procedures:

Delete entry and replace with “The DLA rules for accessing records, for contesting contents, and appealing initial agency determinations are contained in 32 CFR part 323, or may be obtained from the system manager.”

Record source categories:

Delete entry and replace with “Information is obtained from the individual, current and past supervisors, personnel offices, educational and training facilities, licensing or certifying entities, the Defense Civilian Personnel Data System (DCPDS) and the Military Online Processing System (MOPS).”

* * * * *

S335.01

System name:

Training and Employee Development Record System.

System location:

The master file is maintained by the Director, Defense Logistics Agency Training Center, Building 11, Section 5, 3990 E. Broad Street, Columbus, OH 43216-5000.

Subsets of the master file are maintained by DLA Support Services, Business Management Office, 8725 John J. Kingman Road, Stop 6220, Fort Belvoir, VA 22060-6221; the DLA Primary Level Field Activities; and individual supervisors.

Official mailing addresses are published as an appendix to DLA's compilation of systems of records notice.

Categories of individuals covered by the system:

Individuals receiving training funded or sponsored by the Defense Logistics Agency (DLA) to include DLA employees, Department of Defense military personnel, non-appropriated fund personnel, DLA contractor personnel, and DLA foreign national personnel may be included in the system at some locations.

Categories of records in the system:

Individual's name, Social Security Number (SSN), student identification number, date of birth, e-mail, home addresses; occupational series, grade, and supervisory status; registration and training data, including application or nomination documents, pre- and post-test results, student progress data, start and completion dates, course descriptions, funding sources and costs, student goals, long- and short-term training needs, and related data. The files may contain employee agreements and details on personnel actions taken with respect to individuals receiving apprentice or on-the-job training.

Where training is required for professional licenses, certification, or recertification, the file may include proficiency data in one or more skill areas. Electronic records may contain computer logon and password data.

Authority for maintenance of the system:

5 U.S.C. Chapter 41, Training; E.O. 11348, Providing for the further training of Government employees, as amended by E.O. 12107, Relating to the Civil Service Commission and labor-management in the Federal Service; 5 CFR part 410, Office of Personnel Management-Training and E.O. 9397 (SSN), as amended.

Purpose(s):

Information is used to manage and administer training and development programs; to identify individual training needs; to screen and select candidates for training; and for reporting and financial forecasting, tracking, monitoring, assessing, and payment reconciliation purposes. Statistical data, with all personal identifiers removed, are used to compare hours and costs allocated to training among different DLA activities and different types of employees.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To the Department of Veterans Affairs for inspecting, surveying, auditing, or evaluating apprentice or on-the-job training programs.

To the Department of Labor for inspecting, surveying, auditing, or evaluating apprentice training programs and other programs under its jurisdiction.

To Federal, state, and local agencies and oversight entities to track, manage, and report on mandatory training requirements and certifications.

To public and private sector educational, training, and conferencing entities for participant enrollment, tracking, evaluation, and payment reconciliation purposes.

To Federal agencies for screening and selecting candidates for training or developmental programs sponsored by the agency.

To Federal oversight agencies for investigating, reviewing, resolving, negotiating, settling, or hearing complaints, grievances, or other matters under its cognizance.

The DoD `Blanket Routine Uses' also apply to this system of records.

Policies and practices for storing, retrieving, accessing, retaining, and disposing of records in the system:

Storage:

Records may be stored on paper and/or on electronic storage media.

Retrievability:

Records may be retrieved by name, student identification number, or Social Security Number (SSN).

Safeguards:

Records are maintained in physical and electronic areas accessible only to DLA personnel who must use the records to perform assigned duties. Physical access is limited through the use of locks, guards, card swipe, and other administrative procedures. The electronic records are deployed on accredited systems with access restricted by the use of Common Access Card (CAC) and assigned system roles. The web-based files are encrypted in accordance with approved information assurance protocols. Employees are warned through screen log-on protocols and periodic briefings of the consequences of improper access or use of the data. In addition, users are trained to lock or shutdown their workstations when leaving the work area. During non-duty hours, records are secured in access-controlled buildings, offices, cabinets or computer systems.

Retention and disposal:

Training files are destroyed when 5 years old or when superseded, whichever is sooner. Employee agreements, individual training plans, progress reports, and similar records used in intern, upward mobility, career management, and similar developmental training programs are destroyed 1 year after employee has completed the program.

System manager(s) and address:

Director, Defense Logistics Agency Training Center, Building 11, Section 5, 3990 E. Broad Street, Columbus, OH 43216-5000 and Staff Director, Business Management Office, DLA Enterprise Support, ATTN: DES-B, 8725 John J. Kingman Road, Stop 6220, Fort Belvoir, VA 22060-6221.

Notification procedure:

Individuals seeking to determine whether information about themselves is contained in this system of records should address written inquiries to the Privacy Act Office, Headquarters, Defense Logistics Agency, ATTN: DGA, 8725 John J. Kingman Road, Suite 1644, Fort Belvoir, VA 22060-6221.

Written inquiries should contain the individual's name, Social Security Number (SSN), home address and telephone number. Current DLA employees may determine whether information about themselves is contained in subsets to the master file by accessing the system through their assigned DLA computer or by contacting their immediate supervisor.

Record access procedures:

Individuals seeking access to information about themselves contained in this system of records should address written inquiries to the Privacy Act Office, Headquarters, Defense Logistics Agency, ATTN: DGA, 8725 John J. Kingman Road, Suite 1644, Fort Belvoir, VA 22060-6221.

Written inquiries should contain the individual's name, Social Security Number (SSN), home address and telephone number. Current DLA employees may gain access to data contained in subsets to the master file by accessing the system through their assigned DLA computer or by contacting their immediate supervisor.

Contesting record procedures:

The DLA rules for accessing records, for contesting contents, and appealing initial agency determinations are contained in 32 CFR part 323, or may be obtained from the system manager.

Record source categories:

Information is obtained from the individual, current and past supervisors, personnel offices, educational and training facilities, licensing or certifying entities, the Defense Civilian Personnel Data System (DCPDS) and the Military Online Processing System (MOPS).

Exemptions claimed for the system:

None.

[FR Doc. 2010-9894 Filed 4-28-10; 8:45 am]

BILLING CODE 5001-06-P